COMMITTEE FOR PURCHASE FROM PEOPLE WHO ARE BLIND OR SEVERELY DISABLED

Procurement List; Additions

AGENCY: Committee for Purchase from People Who Are Blind or Severely Disabled.

ACTION: Additions to Procurement List.

SUMMARY: This action adds to the Procurement List products and services to be furnished by nonprofit agencies employing persons who are blind or have other severe disabilities.

EFFECTIVE DATE: January 11, 2004.

ADDRESSES: Committee for Purchase From People Who Are Blind or Severely Disabled, Jefferson Plaza 2, Suite 10800, 1421 Jefferson Davis Highway, Arlington, Virginia 22202-3259.

FOR FURTHER INFORMATION CONTACT: Sheryl D. Kennerly, (703) 603-7740.

SUPPLEMENTARY INFORMATION: On October 10, and October 17, 2003, the Committee for Purchase From People Who Are Blind or Severely Disabled published notice (68 FR 58651, and 59775/58776) of proposed additions to the Procurement List.

After consideration of the material presented to it concerning capability of qualified nonprofit agencies to provide the products and services and impact of the additions on the current or most recent contractors, the Committee has determined that the products and services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the government.

2. The action will result in authorizing small entities to furnish the products and services to the government.

3. There are no known regulatory alternatives which would accomplish the objectives of the Javits-Wagner-O'Day Act (41 U.S.C. 46-48c) in connection with the products and services proposed for addition to the Procurement List.

End of Certification

Accordingly, the following products and services are added to the Procurement List:

Products

Product/NSN: SKILCRAFT SAVVY

BK-1260 General Purpose Disinfectant Detergent—32 oz./7930-00-NIB-0176

BK-1260 General Purpose Disinfectant Detergent—1 Gallon/7930-00-NIB-0177

BK-1260 General Purpose Disinfectant Detergent—5 Gallon/7930-00-NIB-0178

BK-1260 General Purpose Disinfectant Detergent—55 Gallon/7930-00-NIB-0179

BK-14 Heavy Duty Degreasing Detergent—32 oz./7930-00-NIB-0144

BK-14 Heavy Duty Degreasing Detergent—1 Gallon/7930-00-NIB-0145

BK-14 Heavy Duty Degreasing Detergent—5 Gallon/7930-00-NIB-0146

BK-14 Heavy Duty Degreasing Detergent—55 Gallon/7930-00-NIB-0147

TR-43 Commercial Vehicle Cleaner—1 Gallon/7930-00-NIB-0127

TR-43 Commercial Vehicle Cleaner—5 Gallon/7930-00-NIB-0142

TR-43 Commercial Vehicle Cleaner—55 Gallon/7930-00-NIB-0143

NPA: Susquehanna Association for the Blind and Visually Impaired, Lancaster, Pennsylvania.

Contract Activity: Office Supplies & Paper Products Acquisition Center, New York, New York.

Services

Service Type/Location: Grounds Maintenance

Newport Research Facilities, Newport, New York

NPA: Herkimer County Chapter, NYSARC, Inc., Herkimer, New York

Contract Activity: Air Force Research Laboratory/IFKO, Rome, New York

Service Type/Location: Janitorial/Custodial Eugene Outpatient Clinic, Department of Veteran Affairs, Eugene, Oregon

NPA: Garten Services, Inc., Salem, Oregon

Contract Activity: VA Medical Center, Roseburg, Oregon

Service Type/Location: Janitorial/Custodial

Finger Lakes National Forest, Hector District Ranger Office, Hector, New York

NPA: Schuyler County Chapter, NYSARC, Inc., Watkins Glen, New York

Contract Activity: USDA, Forest Service, Rutland, Vermont

Service Type/Location: Janitorial/Custodial

Robert J. Dole U.S. Courthouse, Kansas City, Kansas

NPA: Independence and Blue Springs Industries, Inc., Independence, Missouri

Contract Activity: GSA, Service Contracts (6PEF-C), Kansas City, Missouri

Service Type/Location: Switchboard Operation

Greater Los Angeles Health Care System, Los Angeles, California

At the following locations:

Los Angeles Ambulatory Care Center

Sepulveda Ambulatory Care Center

VA Medical Center, West Los Angeles

NPA: Lighthouse for the Blind of Houston, Houston, Texas

Contract Activity: VA Network Business Center, Long Beach, California

Service Type/Location: Switchboard Operation

Veterans Affairs Medical Center, Salem, Virginia

NPA: Virginia Industries for the Blind, Charlottesville, Virginia

Contract Activity: VA Medical Center, Hampton, Virginia

This action does not affect current contracts awarded prior to the effective date of this addition or options that may be exercised under those contracts.

Sheryl D. Kennerly,
Director, Information Management.

[FR Doc. 03-30783 Filed 12-11-03; 8:45 am]

BILLING CODE 6353-01-P